DEPARTMENT OF COMMERCE

National Oceanic and Atmospheric Administration

[I.D. 070202B]

New England Fishery Management Council; Public Meeting Cancellation

AGENCY: National Marine Fisheries Service (NMFS), National Oceanic and Atmospheric Administration (NOAA), Commerce.

ACTION: Notice of cancellation of a public meeting.

SUMMARY: The New England Fishery Management Council (Council) has cancelled the public meeting of its Monkfish Oversight Committee that was scheduled for July 22, 2002 at 9:30 a.m.

SUPPLEMENTARY INFORMATION: The initial notice was published in the Federal Register on July 8, 2002 (67 FR 45095). All other information contained in the previously published notice remains unchanged. The meeting will be rescheduled at a later date and announced in the Federal Register.

Dated: July 15, 2002.
Richard W. Surdi,
Acting Director, Office of Sustainable Fisheries, National Marine Fisheries Service.

[FR Doc. 02-18147 Filed 7-17-02; 8:45 am]

BILLING CODE 3510-22-S